DEPARTMENT OF COMMERCE

National Oceanic and Atmospheric Administration

RIN 0648-XC424

Endangered and Threatened Species; Take of Anadromous Fish; Correction

AGENCY: National Marine Fisheries Service (NMFS), National Oceanic and Atmospheric Administration (NOAA), Commerce.

ACTION: Notice of receipt of a Scientific purposes and Enhancement of survival permit application and Hatchery and Genetic Management Plan (HGMP); notice of availability of draft environmental assessment (EA); correction.

SUMMARY: This action corrects the DATES and ADDRESSES section to a notice published on January 8, 2013 (RIN 0648-XC424), which did not contain all of the necessary information regarding the correct comment and viewing period for the application and the HGMP or the correct email address where comments can be sent. This correction adds a sentence to further clarify the correct dates when the referenced documents will be available for public review and comment. This correction also provides the correct email address for submitting comments.

DATES: All the documents will be available to the public beginning on January 25, 2013. Written comments on the permit application, draft HGMP, and draft EA must be received at the appropriate address or fax number (see ADDRESSES) no later than 5 p.m. Pacific standard time on March 1, 2013.

ADDRESSES: Written comments on the application, draft HGMP or draft EA should be submitted to Jim Simondet, Klamath Branch Supervisor, NMFS Northern California Office, 1655 Heindon Rd, Arcata, CA 95521. Comments may also be submitted via fax (707) 825-4840, or you may transmit your comment as an attachment to the following email address: NMFS.SWR.NCO.IronGateHGMP@noaa.gov.

Copies of the draft EA and HGMP are available for public review during regular business hours from 9:00 a.m. to 5 p.m. at the NMFS Arcata office, 1655 Heindon Road, Arcata, CA 95521, (707) 825-5171. The permit application may be viewed online at: https://apps.nmfs.noaa.gov/preview/preview_open_for_comment.cfm.

FOR FURTHER INFORMATION CONTACT: Jim Simondet, Klamath Branch Supervisor, NMFS, telephone (707) 825-5171, email: jim.simondet@noaa.gov.

SUPPLEMENTARY INFORMATION:

Background

On Jan 8, 2013 NMFS published a Notice (78 FR 1201) that NMFS had received an application for a permit for scientific purposes and to enhance the propagation and survival of a listed species under the Endangered Species Act of 1973. NMFS also announced the availability for public review and comment of a Draft Environmental Assessment (EA) regarding issuance of the permit, which involves take of coho salmon listed as threatened under the ESA. The dates that these documents were to become available to the public were incorrect, and this correction clarifies when the documents will be available for public viewing and comment on the above mentioned Internet address.

In addition, the email address to where comments could be submitted and has been corrected and the correct email address is not provided above in the addresses section.

Dated: January 24, 2013.
Angela Somma,
Chief, Endangered Species Division, Office of Protected Resources, National Marine Fisheries Service.

[FR Doc. 2013-01940 Filed 1-29-13; 8:45 am]

BILLING CODE 3510-22-P